DEPARTMENT OF ENERGY

Federal Energy Regulatory Commission

Notice of Transfer of License and Soliciting Comments, Motions To Intervene, and Protests

April 18, 2002.

Take notice that the following application has been filed with the Commission and is available for public inspection:

a. Application Type: Transfer of License.

b. Project No: 2363-039.

c. Date Filed: April 10, 2002.

d. Applicants: Potlatch Corporation (Transferor) and Northern Holdings, LLC (Transferee).

e. Name and Location of Project: The Cloquet Hydroelectric Project is located on the St. Louis River in Carlton County, Minnesota.

f. Filed Pursuant to: Federal Power Act, 16 U.S.C. 791(a)—825(r).

g. Applicants' Contacts:

Transferor: Robert F. Shapiro, Chadbourne & Parke LLP, 1200 New Hampshire Ave., N.W.; Suite 300 Washington, DC 20036, (202) 974-5670; Fax: (202) 974-5602, E-mail address: rshapiro@chadbourne.com

Transferee: Nancy J. Skancke, GKRSE 1500 K St., NW., Suite 330, Washington, DC 20005, (202) 408-5400; Fax: (202) 408-5406, E-mail address: njskancke@gkrse-law.com

h. FERC Contact: Any questions on this notice should be addressed to Mr. Lynn R. Miles at (202) 219-2671.

i. Deadline for filing comments and or motions: May 3, 2002.

All documents (original and eight copies) should be filed with: Magalie R. Salas, Secretary, Federal Energy Regulatory Commission, 888 First Street, NE, Washington DC 20426. Comments, protests and interventions may be filed electronically via the Internet in lieu of paper; see 18 CFR 385.2001(a)(1)(iii) and the instructions on the Commission's web site under the “e-Filing” link.

Please include the project number (P-2363-039) on any comments or motions filed.

j. Description of Transfer: Licensee, Potlatch Corporation, proposes to transfer the license for the Cloquet Hydroelectric Project, No. 2363, to Northern Holdings LLC. In the near future, the name of Northern Holdings LLC will be changed, but its corporate structure will not be modified and it will remain the same legal entity. Northern Holdings LLC will supplement this application to reflect that name change.

k. Locations of the application: A copy of the application is available for inspection and reproduction at the Commission's Public Reference Room, located at 888 First Street, NE, Room 2A, Washington, DC 20426, or by calling (202) 208-1371. This filing may also be viewed on the Commission's web site at http://www.ferc.gov using the “RIMS” link, select “Docket #” and follow the instructions (call 202-208-2222 for assistance).

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-10006 Filed 4-23-02; 8:45 am]

BILLING CODE 6717-01-P